DEPARTMENT OF ENERGY

Federal Energy Regulatory Commission

[Project Nos. 13809-000; 13814-000]

Lock+ Hydro Friends Fund XLIX; FFP Missouri 15, LLC; Notice of Competing Preliminary Permit Applications Accepted for Filing and Soliciting Comments, Motions To Intervene, and Competing Applications

September 28, 2010.

On July 12, 2010, Lock+ Hydro Friends Fund XLVIII (Hydro Friends) and FFP Missouri 15, LLC (FFP) filed preliminary permit applications, pursuant to section 4(f) of the Federal Power Act, proposing to study the feasibility of a hydropower project at the U.S. Army Corps of Engineers' (Corps) Mississippi River Lock and Dam #14 structure, located on the Mississippi River near Bettendorf, Rockland County, Illinois. The sole purpose of a preliminary permit, if issued, is to grant the permit holder priority to file a license application during the permit term. A preliminary permit does not authorize the permit holder to perform any land-disturbing activities or otherwise enter upon lands or waters owned by others without the owners' express permission.

Hydro Friends' proposed Lock and Dam #14 Hydropower Project (Project No. 13809-000) would consist of: (1) One 109-foot-wide x 40-foot-high lock frame module placed downstream from the lock and dam, housed between two pre-fabricated concrete walls that would guide flows into the turbines. The lock frame module would consist of ten hydropower turbines, each rated at 1.25 megawatts (MW) and have a total rated capacity of 12.5 MW; (2) fish/debris screens located upstream of the module; (3) a new transformer in a new switchyard; (4) a 3-mile-long 69-kilovolt (kV) transmission line extending from the switchyard to an existing nearby distribution line; and (5) appurtenant facilities. Hydro Friends is also exploring alternatives that would locate the module in the downstream section of the Corps' navigational lock, and upstream of the dam. Each design would have an average annual generation of 54,788 megawatt-hours per year (MWh/yr). The project would operate run-of-river and utilize flows released from the dam.

Applicant Contact: Mr. Wayne F. Krouse, Chairman and CEO, Hydro Green Energy, LLC, 5090 Richmond Avenue #390, Houston, TX 77056; Telephone: (877) 556-6566 x 709.

FFP's Mississippi Lock and Dam #14 Project (Project No. 13814-000) would consist of: (1) Two to four modular generation units placed in 12 of the existing gate bays of the Corps' lock and dam structure. These units would contain compact bulb turbines with individual unit capacities of 0.35 MW and 0.70 MW and have a combined capacity of 16.8 MW; (2) a 30-foot x 40-foot control building located on the south side of the river; (3) a 13,100-foot-long transmission line extending south from the switchyard near the proposed powerhouse to an interconnection point on the Illinois shore with an existing transmission line; and (4) appurtenant facilities. The proposed operating voltage would be in the 34 to 138-kV range. FFP is also exploring an alternative that would involve construction of a new 220-foot-long x 250-foot-wide x 50-foot-high conventional powerhouse, intake channel, and tailrace opposite the south side of the river. The new proposed powerhouse would contain four horizontal bulb turbines rated at 4.2 MW each. Each design would have a total energy generation of 145 gigawatt-hours per year. The project would utilize Corps designated flows from the Mississippi Lock and Dam #14 structure and operate as directed by the Corps.

Applicant Contact: Mr. Ramya Swaminathan, Free Flow Power Corporation, 33 Commercial Street, Gloucester, MA 01930; Telephone: (978) 283-2822.

FERC Contact: Tyrone A. Williams, tyrone.williams@ferc.gov or (202) 502-6331.

Deadline for filing comments, motions to intervene, and competing applications (without notices of intent), or notices of intent to file competing applications: 60 days from the issuance date of this notice. Comments, motions to intervene, notices of intent, and competing applications may be filed electronically via the Internet. See 18 CFR 385.2001(a)(1)(iii) and the instructions on the Commission's Web site (http://www.ferc.gov/docs-filing/ferconline.asp) under the “eFiling” link. For a simpler method of submitting text only comments, click on “eComment.” For assistance, please contact FERC Online Support at FERCOnlineSupport.gov; call toll-free at (866) 208-3676; or, for TTY, contact (202) 502-8659. Although the Commission strongly recommends electronic filing, documents may also be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp.

More information about this project, including a copy of the application can be viewed or printed on the “eLibrary” link of Commission's Web site at http://www.ferc.gov/docs-filing/elibrary.asp. Enter the docket number (P-13809) in the docket number field to access the document. For assistance, contact FERC Online Support.

Kimberly D. Bose,
Secretary.

[FR Doc. 2010-24955 Filed 10-4-10; 8:45 am]

BILLING CODE 6717-01-P